DEPARTMENT OF HOMELAND SECURITY

[Docket No. DHS-1640-0036]

Agency Information Collection Activities: Submission for Review; Information Collection Request for the Department of Homeland Security, Science and Technology, Research and Development Partnerships Group, Office of Public-Private Partnerships

AGENCY: Science and Technology Directorate, DHS.

ACTION: 60-day notice and request for comment.

SUMMARY: The Department of Homeland Security (DHS), Science & Technology (S&T) Directorate invites the general public to comment on the DHS S&T Industry Outreach Information data collection forms for the Public-Private Partnerships (P3) who resides within the Research and Development Partnerships Group (RDP). S&T/RPD/P3 is responsible for coordinating the collection of Industry Information,. This authority charges the P3 Office with the collection of relevant information of companies, including their contact and product information. Any and all information provided by companies is completely voluntary; companies are not required to submit any requested information.

The DHS/S&T/RDP/P3 invites interested persons to comment on the following form and instructions for the S&T/RDP/PPP: DHS S&T Industry Outreach Information Form. Interested persons may receive a copy of the Forms by contacting the DHS S&T PRA Coordinator. This notice and request for comments is required by the Paperwork Reduction Act of 1995.

DATES: Comments are encouraged and will be accepted until September 12, 2017.

ADDRESSES: Interested persons are invited to submit comments, identified by docket number DHS-1640-NEW, by one of the following methods:

• Federal eRulemaking Portal: http://www.regulations.gov. Please follow the instructions for submitting comments.

• Email: S&TPRA@st.dhs.gov. Please include docket number DHS-1640-0036 in the subject line of the message.

• Fax: (202) 254-6171. (Not a toll-free number).

• Mail: Science and Technology Directorate, ATTN: Chief Information Office—Mary Cantey, 245 Murray Drive, Mail Stop 0202, Washington, DC 20528.

FOR FURTHER INFORMATION CONTACT: S&T/RDP/PPP System Owner: Melanie Cummings (202) 254-5616 (Not a toll free number).

SUPPLEMENTARY INFORMATION: The information collected in this form is used by both DHS S&T RDP/P3 and R&D program managers in support of technology scouting and commercialization efforts, program formulation and planning, and investment decision making. Prior to making any investment decisions regarding R&D funding, DHS S&T conducts planning activities to not only determine the need for an R&D investment but also ensures awareness of all possible solutions to the operational challenge that requires the investment. Technology scouting and commercialization inform these planning activities by providing information on current industry capabilities. This information is gathered from a number of sources, including the information provided by companies on the Industry Outreach Form. P3, which operates under the authority in Title 6 of the U.S. Code, sec. 193, shares the information received from companies with R&D program managers, who may be able to apply a company's technical capabilities or technologies to their specific project or program.

The first page of the form requests basic contact information on a company, including business name; mailing address; point of contact name, title, and contact information; company Web site address; and the company classification (size, NAICS code, etc.). The form also requests information to help S&T assess and inform its industry outreach efforts, including how and where a company heard about S&T and any previous experiences working with S&T. The second page of the form requests information about the technical capabilities (technology or service) a company offers, including the current stage of the technology, its current technology and/or manufacturing readiness level, and why the capability is unique and valuable to DHS. All information requested in the form is necessary for determining to which R&D programs the company or product may be of interest, alignment to current and future needs of S&T and its customers in the homeland security enterprise, and how best to partner with the company.

Overview of This Information Collection

(1) Type of Information Collection: New information collection.

(2) Title of the Form/Collection: DHS S&T Industry Outreach Information Form.

(3) Agency Form Number, if any, and the applicable component of the Department of Homeland Security sponsoring the collection: Department of Homeland Security, Science & Technology Directorate—DHS S&T Industry Outreach Information Form (DHS Form 026-01)).

(4) Affected public who will be asked or required to respond, as well as a brief abstract: Private sector companies who are making significant investments in innovative technology development with whom S&T seeks to leverage those investments to meet the needs of the homeland security enterprise.

(5) An estimate of the total number of respondents and the amount of time estimated for an average respondent to respond:

a. Estimate of the total number of respondents: 312.

b. An estimate of the time for an average respondent to respond: .050 burden hours.

c. An estimate of the total public burden (in hours) associated with the collection: 156 burden hours.

Dated: July 7, 2017.
Rick Stevens,
Chief Information Officer, Science and Technology Directorate.

[FR Doc. 2017-14869 Filed 7-13-17; 8:45 am]

BILLING CODE 9110-9F-P